DEPARTMENT OF VETERANS AFFAIRS

[OMB Control No. 2900-0208]

Proposed Information Collection (Architect—Engineer Fee Proposal, VA Form 10-6298, Daily Log (Contract Progress Report—Formal Contract), VA Form 10-6131, and Supplement Contract Progress Report, VA Form 10-61001a) Activity: Comment Request

AGENCY: Office of Management, Department of Veterans Affairs.

ACTION: Notice.

SUMMARY: The Office of Management (OM), Department of Veterans Affairs (VA), is announcing an opportunity for public comment on the proposed collection of certain information by the agency. Under the Paperwork Reduction Act (PRA) of 1995, Federal agencies are required to publish notice in the Federal Register concerning each proposed collection of information, including each extension of a currently approved collection, and allow 60 days for public comment in response to the notice. This notice describes the nature of the information collection and its expected cost and burden and includes the actual data collection instrument.

DATES: Written comments and recommendations on the proposed collection of information should be received on or before September 22, 2015.

ADDRESSES: Submit written comments on the collection of information through the Federal Docket Management System (FDMS) at www.Regulations.gov; or to Waleska Pierantoni-Monge, Office of Acquisition and Logistics (003A2A), Department of Veterans Affairs, 810 Vermont Avenue NW., Washington, DC 20420; or email: waleska.pierantoni-monge@va.gov. Please refer to “OMB Control No. 2900-0208” in any correspondence. During the comment period, comments may be viewed online through FDMS.

FOR FURTHER INFORMATION CONTACT: Waleska Pierantoni-Monge at (202) 632-5400, Fax (202) 343-1434.

SUPPLEMENTARY INFORMATION: Under the PRA of 1995 (Pub. L. 104-13; 44 U.S.C. 3501-3521), Federal agencies must obtain approval from the Office of Management and Budget (OMB) for each collection of information they conduct or sponsor. This request for comment is being made pursuant to section 3506(c)(2)(A) of the PRA.

Titles

a. Architect—Engineer Fee Proposal, VA Form 10-6298.

b. Daily Log (Contract Progress Report—Formal Contract), VA Form 10-6131.

c. Supplement Contract Progress Report, VA Form 10-61001a.

OMB Control Number: 2900-0208.

Type of Review: Reinstatement of a previously approved collection.

Abstract

a. An Architect-engineering firm selected for negotiation of a contract with VA is required to submit a fee proposal based on the scope and complexity of the project. VA Form 10-6298 is used to obtain such proposal and supporting cost or pricing data from the contractor and subcontractor.

b. VA Forms 10-6131 and 10-6001a are used to record data necessary to assure the contractor provides sufficient labor and materials to accomplish the contract work. VA Form 10-6131 is used for national contracts and VA Form 10-6001a is used for smaller VA Medical Center station level projects and as an option on major projects before the interim schedule is submitted. An agency may not conduct or sponsor, and a person is not required to respond to a collection of information unless it displays a currently valid OMB control number.

Affected Public: Business or other for-profit.

Estimated Annual Burden

a. VA Form 10-6298—1,000.

b. VA Form 10-6131—3,591.

c. VA Form 10-6001a—750.

Estimated Average Burden per Respondent

a. VA Form 10-6298—4 hours.

b. VA Form 10-6131—12 minutes.

c. VA Form 10-6001a—12 minutes.

Frequency of Response: On occasion.

Estimated Number of Respondents

a. VA Form 10-6298—250.

b. VA Form 10-6131—17,955.

c. VA Form 10-6001a—3,750.

By direction of the Secretary:
Kathleen M. Manwell,
Program Analyst, VA Privacy Service, Office of Privacy and Records Management, Department of Veterans Affairs.

[FR Doc. 2015-18164 Filed 7-23-15; 8:45 am]

BILLING CODE 8320-01-P